DEPARTMENT OF COMMERCE

National Oceanic and Atmospheric Administration

[RTID 0648-XF125]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Habitat Joint Committee and Advisory Panel to consider actions affecting New England fisheries in the exclusive economic zone (EEZ). This meeting will be held in-person with a webinar option. Recommendations from this group will be brought to the full Council for formal consideration and action, if appropriate.

DATES: This webinar will be held on Thursday, September 11, 2025, at 9 a.m. Webinar registration URL information: https://nefmc-org.zoom.us/meeting/register/VsZQSyIsQ7aIyMThqjVJMg.

ADDRESSES: This meeting will be held at Four Points by Sheraton, One Audubon Road, Wakefield, MA 01880; Phone (781) 245-9300.

Council address: New England Fishery Management Council, 50 Water Street, Mill 2, Newburyport, MA 01950.

FOR FURTHER INFORMATION CONTACT: Cate O'Keefe, Ph.D., Executive Director, New England Fishery Management Council; telephone: (978) 465-0492.

SUPPLEMENTARY INFORMATION:

Agenda

The Habitat Committee and Advisory Panel will meet jointly to review the draft 2025 Essential Fish Habitat (EFH) Framework including EFH designation alternatives and identify a preferred alternative for Council consideration at the September 23-25 meeting. They will receive a demonstration of the New England Sensitive Habitat Viewer Story Map, developed by the NOAA's Greater Atlantic Regional Fisheries Office Habitat and Ecosystem Services Division. The group will also discuss the ongoing 3-year review of the Stellwagen and Georges Bank Dedicated Habitat Research Areas. They plan to receive updates on ocean planning activities and consider potential next steps for Council work. They will also receive an update on the Offshore Wind Regional Fund Administrator Compensation Process. Also on the agenda is discussion on EFH-related work that could be completed following completion of the 2025 framework, including next steps identified during the EFH Technical Review. Other business will be discussed, if necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Ph.D., Executive Director, at (978) 465-0492, at least 5 days prior to the meeting date.

Authority: 16 U.S.C. 1801 et seq.

Dated: August 26, 2025.
Rey Israel Marquez,
Acting Deputy Director, Office of Sustainable Fisheries, National Marine Fisheries Service.

[FR Doc. 2025-16507 Filed 8-27-25; 8:45 am]

BILLING CODE 3510-22-P